DEPARTMENT OF VETERANS AFFAIRS

48 CFR Parts 816, 828, and 852

RIN 2900-AP82

Revise and Streamline VA Acquisition Regulation To Adhere to Federal Acquisition Regulation Principles (VAAR Case 2014-V002); Correction

AGENCY: Department of Veterans Affairs.

ACTION: Final rule; correction.

SUMMARY: The Department of Veterans Affairs (VA) is correcting a final rule regarding Federal Acquisition Regulation Principles. This correction addresses minor technical errors in the final rule.

DATES: This correction is effective March 23, 2018.

FOR FURTHER INFORMATION CONTACT: Mr. Ricky Clark, Senior Procurement Analyst, Procurement Policy and Warrant Management Services (003A2A), 425 I Street NW, Washington DC 20001, (202) 632-5276. (This is not a toll-free telephone number.)

SUPPLEMENTARY INFORMATION: VA is correcting its final rule, “Revise and Streamline VA Acquisition Regulation to Adhere to Federal Acquisition Regulation Principles (VAAR Case 2014-V002)” that published February 21, 2018, in the Federal Register at 83 FR 7401.

In FR Doc. 2018-03164, appearing on page 7401 in the Federal Register of February 21, 2018, the following corrections are made:

Corrections

1. On page 7404, in the second column, redesignate amendatory instructions 7 through 22 as amendatory instructions 8 through 23 and add new amendatory instruction 7 to read as follows:

Subpart 816.70—[Removed and Reserved]

7. Subpart 816.70 is removed and reserved.

Approved: March 7, 2018.
Consuela Benjamin,
Regulations Development Coordinator, Office of Regulation Policy & Management, Office of the Secretary, Department of Veterans Affairs.

[FR Doc. 2018-04883 Filed 3-9-18; 8:45 am]

BILLING CODE 8320-01-P